ENVIRONMENTAL PROTECTION AGENCY

[FRL-7202-8]

Proposed Settlement Under Section 122(h) of the Comprehensive Environmental Response, Compensation and Liability Act, as amended, 42 U.S.C. 9622(h), Hermiston Lab Site, Hermiston, Oregon

AGENCY: Environmental Protection Agency (EPA).

ACTION: Notice of proposed settlement and request for public comment.

SUMMARY: In accordance with section 122(i) of the Comprehensive Environmental Response, Compensation and Liability Act, as amended by the Superfund Amendment and Reauthorization Act (“CERCLA”), notice is hereby given of a proposed settlement to resolve a claim related to the Hermiston Laboratory Site. The proposed settlement concerns the federal government's past response costs at the Hermiston Laboratory Site, Hermiston, Oregon. The settlement requires the settling parties, Bill and Bonnie Kik, to pay $19,468.26 to the Hazardous Substance Superfund. For thirty (30) days following the date of publication of this notice, the Agency will receive written comments relating to the settlement. The Agency's response to any comments received will be available for public inspection at the U.S. Environmental Protection Agency, Region 10, office at 1200 Sixth Avenue, Seattle, Washington 98101. A copy of the proposed settlement may be obtained from Carol Kennedy, Regional Hearing Clerk, EPA, Region 10, 1200 Sixty Avenue (ORC-158), Seattle, Washington 98101, telephone number (206) 553-0242. Comments should reference the “Hermiston Lab Site” and EPA Docket No. CERCLA-10-2001-0194 and should be addressed to Ms. Kennedy at the above address.

FOR FURTHER INFORMATION CONTACT: Ted Yackulic, Assistant Regional Counsel, EPA Region 10, Office of Regional Counsel, 1200 Sixth Avenue (ORC-158), Seattle, Washington 98101, telephone number (206) 553-1218.

Dated: April 12, 2002.
Ron Kreizenbeck,
Acting Regional Administrator, Region 10.

[FR Doc. 02-10630 Filed 4-29-02; 8:45 am]

BILLING CODE 6560-50-M